SOCIAL SECURITY ADMINISTRATION

[Docket No: SSA-2016-0018]

Agency Information Collection Activities: Proposed Request

The Social Security Administration (SSA) publishes a list of information collection packages requiring clearance by the Office of Management and Budget (OMB) in compliance with Public Law 104-13, the Paperwork Reduction Act of 1995, effective October 1, 1995. This notice includes a new information collection and a revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2016-0018].

I. The information collections below are pending at SSA. SSA will submit them to OMB within 60 days from the date of this notice. To be sure we consider your comments, we must receive them no later than June 27, 2016. Individuals can obtain copies of the collection instruments by writing to the above email address.

1. Report of Adult Functioning-Employer—20 CFR 404.1512 and 20 CFR 416.912—0960—NEW. Section 205(a), 223(d)(5)(A), 1631(d)(1), and 1631(e)(1) of the Social Security Act (Act) require claimants applying for Social Security Disability Insurance (SSDI) or Supplemental Security Income (SSI) benefits to provide SSA with medical and other evidence of their disability. 20 CFR 404.1512 and 20 CFR 416.912 of the Code of Federal Regulations provides detailed requirements of the types of evidence Social Security disability claimants and beneficiaries must provide showing how their impairment(s) affects their ability to work (e.g., evidence of age, education and training, work experience, daily activities, efforts to work, and any other evidence). Past employers familiar with the claimant's ability to perform work activities complete Form SSA-385-BK, Report of Adult Functioning-Employer to provide SSA with information about the employees day-to-day functioning in the work setting. SSA and Disability Determination Services use the information Form SSA-3385-BK collects as the basis to determine eligibility or continued eligibility for disability benefits. The respondents are claimants' past employers.

Type of Request: This is a new information collection.

Modality of completion | Number of respondents | Frequency of response | Average burden per response (minutes) | Estimated total annual burden (hours)
SSA-3385-BK | 3,900 | 1 | 20 | 1,300

2. Work Incentives Planning and Assistance Program—0960-0629. As part of SSA's strategy to assist SSDI beneficiaries and SSI recipients who wish to return to work and achieve self-sufficiency, SSA established the Work Incentives Planning and Assistance (WIPA) program. This community based, work incentive, planning and assistance project collects identifying claimant information via project sites and community work incentives coordinators (CWIC). SSA uses this information to ensure proper management of the project, with particular emphasis on administration, budgeting, and training. In addition, project sites and CWIC's collect data from SSDI beneficiaries and SSI recipients on background employment, training, benefits, and work incentives. SSA is interested in identifying SSDI beneficiary and SSI recipient outcomes under the WIPA program, to determine the extent to which beneficiaries with disabilities and SSI recipients achieve their employment, financial, and healthcare goals. SSA will also use the data in its analysis for future planning for SSDI and SSI programs. Respondents are SSDI beneficiaries, SSI recipients, community project sites, and employment advisors.

Type of Request: Revision of an OMB-approved information collection.

Modality of completion | Number of respondents | Frequency of response | Average burden per response (minutes) | Estimated total annual burden (hours)
Small WIPA Site (under 150 beneficiaries served) | 4,800 | 1 | 20 | 1,600
Medium WIPA Site (150-599 beneficiaries served) | 7,500 | 1 | 20 | 2,500
Large WIPA Site (600 or more beneficiaries served) | 17,700 | 1 | 20 | 5,900
Total WIPA Sites | 30,000 |  |  | 10,000
SSDI & SSI Beneficiaries | 30,000 | 1 | 25 | 12,500
Help Line | 30,000 | 1 | 5 | 2,500
Total | 60,000 |  |  | 15,000
Grand Total | 90,000 |  |  | 25,000

Dated: April 22, 2016.
Naomi R. Sipple,
Reports Clearance Officer, Social Security Administration.

[FR Doc. 2016-09828 Filed 4-26-16; 8:45 am]

BILLING CODE 4191-02-P